DEPARTMENT OF TRANSPORTATION

Federal Highway Administration

Notice of Final Federal Agency Actions on Proposed Highway in Florida

AGENCY: Federal Highway Administration (FHWA), DOT.

ACTION: Notice of Limitations on Claims for Judicial Review of Actions by FHWA and Other Federal Agencies.

SUMMARY: This notice announces action taken by FHWA and other Federal agencies that are final. This final agency action relates to a proposed highway project on I-275 from the Howard Frankland Bridge to north of Martin Luther King Jr. Blvd. and I-4 from I-275 to east of 50th Street. The project will provide multilane improvements along I-275 including the addition of 2 tolled express lanes in each direction, reconstruction of the I-275/SR60 (Westshore) interchange, and operational improvements to the I-275/I-4 (Downtown) interchange. The Tampa Interstate System (TIS) project corridor traverses the urban area of Tampa in Hillsborough County, Florida. The FHWA's Supplemental Environmental Impact Statement (SEIS) provides details on the Selected Alternative for the proposed improvements.

DATES: A claim seeking judicial review of the Federal agency actions on the highway project will be barred unless the claim is filed on or before February 25, 2021. If the Federal law that authorizes judicial review of a claim provides a time period of less than 150 days for filing such claim, then that shorter time period still applies.

FOR FURTHER INFORMATION CONTACT: For FHWA: Luis D. López Rivera, P.E., Senior Environmental Specialist, Federal Highway Administration, Florida Division, 400 W Washington Street, Suite 4200, Orlando, FL 32801; (407) 867-6420; luis.d.lopez@dot.gov. The FHWA Florida Division Office's normal business hours are 7:30 a.m. to 4 p.m. (Eastern Time). For FDOT: Jason Watts, Director, Office of Environmental Management, FDOT, 605 Suwannee Street, MS 37, Tallahassee, Florida 32399; telephone (850) 414-4316; email: Jason.Watts@dot.state.fl.us. The FDOT Office of Environmental Management's normal business hours are 8:00 a.m. to 5:00 p.m. (Eastern Standard Time), Monday through Friday, except State holidays.

SUPPLEMENTARY INFORMATION: Notice is hereby given that FHWA has taken a final agency action by issuing a Record of Decision (ROD) for the following highway project in the State of Florida: Tampa Interstate System (TIS) Multilane Improvements along I-275 include the addition of 2 tolled express lanes in each direction, reconstruction of the I-275/SR60 (Westshore) interchange, and operational improvements to the I-275/I-4 (Downtown) interchange. The length of the project is approximately fifteen miles. The full reconstruction of the I-275/SR 60 (Westshore) interchange will include new general purpose “flyover” ramps, the addition of tolled express lanes and ramps, and will accommodate future fixed-guideway transit in the median. The proposed express lane improvements will provide several direct connections to and from I-275, and Reo Street will be modified as a part of this project. Southbound, a new two-lane bridge will be constructed north of the existing southbound I-275 lanes over the Hillsborough River. Northbound, a new one-lane bridge will be constructed south of the existing northbound I-275 lanes over the Hillsborough River.

The I-275/SR 60 (Westshore) interchange is fully funded through construction in the current Cost Feasible Plan (CFP) of the Hillsborough Metropolitan Planning Organization's (MPO) Plan Hillsborough 2045 Update Long Range Transportation Plan (LRTP). The FDOT Fiscal Year (FY) 2019/20-2022/23 State Transportation Improvement Program (STIP) and the Hillsborough MPO's FY2019/2020 Transportation Improvement Program (TIP) also contain funding for Right-of-Way acquisition for the I-275/SR 60 (Westshore) interchange.

The I-275/I-4 (Downtown) interchange is fully funded through construction in the Hillsborough MPO's LRTP CFP. There is no funding in the current FDOT STIP or Hillsborough MPO's TIP for any of the phases for the I-275/I-4 (Downtown) interchange. The FHWA's action, related actions by other Federal agencies, and the laws under which such actions were taken, are described in the SEIS approved on September 15, 2020, and the ROD also approved on September 15, 2020, and other documents in the project file. The SEIS and ROD are available for review by contacting FHWA or FDOT at the addresses provided above. In addition, these documents can be viewed and downloaded from the project website at https://tampainterstatestudy.com/. This notice of limitation on claims pertains to final permit, license, and approval decisions made as part of the Supplemental EIS. The limitations on claims for final permit, license, and approval decisions made under previous RODs associated with the TIS project remain unaltered by this subsequent notice. The laws under which actions were taken include, but are not limited to:

1. General: National Environmental Policy Act (NEPA) [42 U.S.C. 4321 et seq.]; Federal-Aid Highway Act (FAHA) [23 U.S.C. 109 and 23 U.S.C. 128]; 23 CFR part 771.

2. Air: Clean Air Act (CAA) [42 U.S.C. 7401-7671(q)], with the exception of project level conformity determinations [42 U.S.C. 7506].

3. Noise: Noise Control Act of 1972 [42 U.S.C. 4901-4918]; 23 CFR part 772.

4. Land: Section 4(f) of the Department of Transportation Act of 1966 [23 U.S.C. 138 and 49 U.S.C. 303]; Landscaping and Scenic Enhancement (Wildflowers) [23 U.S.C. 319]; Land and Water Conservation Fund (LWCF) [54 U.S.C. 200302-200310]; 23 CFR part 774.

5. Wildlife: Endangered Species Act (ESA) [16 U.S.C. 1531-1544 and 1536]; Marine Mammal Protection Act [16 U.S.C. 1361-1423h], Anadromous Fish Conservation Act [16 U.S.C. 757(a)-757(f)]; Fish and Wildlife Coordination Act [16 U.S.C. 661-667(d)]; Migratory Bird Treaty Act (MBTA) [16 U.S.C. 703-712]; Magnuson-Stevenson Fishery Conservation and Management Act of 1976, as amended [16 U.S.C. 1801-1891d], with Essential Fish Habitat requirements [16 U.S.C. 1855(b)(2)].

6. Historic and Cultural Resources: Section 106 of the National Historic Preservation Act of 1966, as amended [54 U.S.C. 3006101 et seq.]; Archaeological Resources Protection Act of 1979 (ARPA) [16 U.S.C. 470(aa)-470(II)]; Preservation of Historical and Archaeological Data [54 U.S.C. 312501-312508]; Native American Grave Protection and Repatriation Act (NAGPRA) [25 U.S.C. 3001-3013; 18 U.S.C. 1170];

7. Social and Economic: Civil Rights Act of 1964 [42 U.S.C. 2000d-2000d-1]; American Indian Religious Freedom Act [42 U.S.C. 1996]; Farmland Protection Policy Act (FPPA) [7 U.S.C. 4201-4209].

8. Wetlands and Water Resources: Clean Water Act (Section 319, Section 401; Coastal Barriers Resources Act (CBRA) [16 U.S.C. 3501-3510]; Coastal Zone Management Act (CZMA) [16 U.S.C. 1451-1466]; Safe Drinking Water Act (SDWA) [42 U.S.C. 300f-300j-26]; Rivers and Harbors Act of 1899 [33 U.S.C. 401-406]; Wild and Scenic Rivers Act [16 U.S.C. 1271-1287]; Emergency Wetlands Resources Act [16 U.S.C. 3921, 3931]; Wetlands Mitigation, [23 U.S.C. 119(g) and 133(b)(3)]; Flood Disaster Protection Act [42 U.S.C. 4001-4130].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: September 17, 2020,
Karen M. Brunelle,
Director of Project Development, Tallahassee, Florida.

[FR Doc. 2020-20932 Filed 9-25-20; 8:45 am]

BILLING CODE 4910-RY-P